ENVIRONMENTAL PROTECTION AGENCY

[FRL-8720-1]

Gulf of Mexico Program Policy Review Board Meeting

AGENCY: Environmental Protection Agency ( EPA).

ACTION: Notice of meeting.

SUMMARY: Under the Federal Advisory Committee Act (Pub. L. 92-463), EPA gives notice of a meeting of the Gulf of Mexico Program (GMP) Policy Review Board (PRB). For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held on Tuesday, October 28, 2008, from 1:30 p.m. to 5 p.m. and on Wednesday, October 29, 2008, from 8:30 a.m. to 12 p.m.

ADDRESSES: The meeting will be held at the Hilton New Orleans Riverside, 2 Poydras Street, New Orleans, LA 70140, (504) 561-0500.

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda topics include: Gulf of Mexico Alliance Implementation Status and Governors' Action Plan Release #2 Updates; Louisiana Leadership Briefing; Binational Initiative Updates; SPARROW MODEL—Evolving Partnership Support Tools; Coastal America Partnership—Designation of Audubon Aquarium of the Americas; Gulf Program FY 08 Accomplishments and FY 09 Workplan; 2008 Gulf Guardian Program; Gulf Business Coalition Report.

The meeting is open to the public.

Dated: September 17, 2008.
Gloria D. Car,
Designated Federal Officer.

[FR Doc. E8-22459 Filed 9-23-08; 8:45 am]

BILLING CODE 6560-50-P